DEPARTMENT OF TRANSPORTATION

Federal Aviation Administration

Proposed Advisory Circular, AC 23-XX, Acceptance Guidance on Material Procurement and Process Specifications for Polymer Matrix Composite Systems

AGENCY: Federal Aviation Administration (FAA), DOT.

ACTION: Notice of availability of proposed advisory circular AC 23-XX, and request for comments.

SUMMARY: This notice announces the availability of and requests comments on a proposed advisory circular that provides information and guidance on material and process specifications, or other documents, used to ensure sufficient control of composite prepreg materials in normal, utility, acrobatic, and commuter category airplanes. This notice is necessary to give all interested persons an opportunity to present their views on the proposed advisory circular.

DATES: Comments must be received on or before June 12, 2003.

ADDRESSES: Send all comments on the proposed advisory circular to: Federal Aviation Administration, Attention: Lester Cheng, Regulations and Policy, ACE-111, 901 Locust, Kansas City, Missouri 64106. Comments may be inspected at the above address between 7:30 a.m. and 4 p.m. weekdays, except Federal holidays.

FOR FURTHER INFORMATION CONTACT: Lester Cheng, telephone: 316-946-4111; e-mail: lester.cheng@faa.gov.

SUPPLEMENTARY INFORMATION:

Comments Invited

Interested persons are invited to comment on the proposed advisory circular by submitting such written data, views, or arguments as they may desire. Commenters should identify advisory circular 23-XX and submit comments, in duplicate, to the address specified above. All communications received on or before the closing date for comments will be considered by the Small Airplane Directorate before issuing the final advisory circular. The proposed advisory circular can be found and downloaded from the Internet at http://www.faa.gov/certification/aircraft/sadProposed.htm or a paper copy of the proposed advisory circular may be obtained by contacting the person named above under the caption FOR FURTHER INFORMATION CONTACT.

Discussion

The proposed advisory circular has been developed with the help of industry to ensure adequate composite material control and to promote standardization of material and process specifications. It presents procedural and technical information for the user from the regulatory perspective.

Issued in Kansas City, Missouri, on April 29, 2003.
Michael Gallagher,
Manager, Small Airplane Directorate, Aircraft Certification Service.

[FR Doc. 03-11919 Filed 5-12-03; 8:45 am]

BILLING CODE 4910-13-P